DEPARTMENT OF COMMERCE

National Oceanic and Atmospheric Administration

[Docket No. 00218045-0095-02]

RIN 0648-ZA80

Sea Grant Minority Serving Institutions Partnership Program: Request for Proposals for FY 2000; Correction

AGENCY: National Sea Grant College Program, National Oceanic and Atmospheric Administration, Department of Commerce.

ACTION: Notice; correction.

SUMMARY: The National Oceanic and Atmospheric Administration published a document in the Federal Register on March 14, 2000 announcing that applications were being accepted for the Sea Grant Minority Serving Institution Partnership Program, initiated by the National Sea Grant College Program. The document is being amended to make Minority Serving Institutions in the state of Alaska eligible to submit proposals.

FOR FURTHER INFORMATION CONTACT: Dr. Francis Schuler, Executive Director, National Sea Grant College Program, R/SG, NOAA, 1315 East-West Highway, Silver Spring, MD 20910. Tel. (301) 713-2445 ext. 158; e-mail: fritz.schuler@noaa.gov.

SUPPLEMENTARY INFORMATION: In the March 14, 2000, Federal Register notice soliciting proposals for the Sea Grant Minority Serving Institutions Partnership Program, a drafting error in the eligibility section of notice occurred. NOAA is now amending this notice to reflect that Minority Serving Institutions in the state of Alaska are eligible to submit proposals to the Partnership Program.

Correction

In the Federal Register of March 14, 2000, in FR Doc. 00-6230, on page 13720, in the second column, correct Section III, paragraph (iv) to read as follows:

(iv) institutions of higher education located in U.S. insular areas and the state of Alaska that are on the “1999 United States Department of Education Accredited Post-Secondary Minority Institutions” are eligible to submit proposals.

Program Authority: 33 U.S.C. 1121-1131. Catalog of Federal Assistance Number: 11.417, Sea Grant Support.

Dated: April 10, 2000.
Louisa Koch,
Deputy Assistant Administrator, Office of Oceanic and Atmospheric Research, National Oceanic and Atmospheric Administration.

[FR Doc. 00-9283 Filed 4-14-00; 8:45 am]

BILLING CODE 3510-KA-M